DEPARTMENT OF TRANSPORTATION

Federal Aviation Administration

14 CFR Part 73

[Docket No. FAA-2014-0389; Airspace Docket No. 14-ASO-6]

RIN 2120-AA66

Amendment of Time of Designation for Restricted Area R-3002G; Fort Benning, GA

AGENCY: Federal Aviation Administration (FAA), DOT.

ACTION: Final rule; technical amendment.

SUMMARY: This action amends the time of designation for restricted area R-3002G at Fort Benning, GA, by removing the words “local time” and adding the words “Eastern time” to the published time of designation. The majority of the R-3002 complex (i.e., R-3002A through F) lies within the Eastern time zone. However, R-3002G is a small segment that is in the Central time zone. Since the Eastern time zone is predominant and is used for scheduling activities in the entire complex, the time of designation for R-3002G is amended to avoid confusion.

DATES: Effective date 0901 UTC, September 18, 2014.

FOR FURTHER INFORMATION CONTACT: Paul Gallant, Airspace Policy and Regulations Group, AJV-11, Office of Airspace Services, Federal Aviation Administration, 800 Independence Avenue SW., Washington, DC 20591; telephone: (202) 267-8783.

SUPPLEMENTARY INFORMATION:

Background

The Fort Benning, GA, restricted area complex consists of seven subareas designated R-3002A through G. Restricted areas R-3002A through F lie within the Eastern time zone, while R-3002G is a small segment that lies within the Central time zone. Normally, the times listed in the “time of designation” for a restricted area include the qualifier “local time” in the description. However, when a complex overlaps more than one time zone, the predominant time zone is specified in the time of designation for the lesser subarea even though that area extends into an adjacent time zone. In this case, all R-3002 subareas, except area G, lie within the Eastern time zone and the using agency schedules activation of the entire area based on Eastern time. Therefore, to avoid possible confusion, “Eastern time” is being added to the time of designation for R-3002G.

The Rule

This action amends Title 14 Code of Federal Regulations (14 CFR) part 73 by removing the words “local time” from the time of designation for restricted area R-3002G, Fort Benning, GA, and inserting the words “Eastern time.” Since all R-3002 subareas, except area G, lie within the Eastern time zone, the Eastern time zone is predominant and is used for scheduling the activation of all subareas (A through G).

Because this amendment is simply an editorial change that does not affect the boundaries, designated altitudes, or activities conducted within the restricted area, notice and public procedure under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is an administrative change to the description of restricted area R-3002G to clarify the time zone used in scheduling activation of the airspace. It does not alter the dimensions, altitudes, or activities conducted within the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. Section 73.30 is amended as follows:

* * * * *

R-3002G Fort Benning, GA [Amended]

By removing the current time of designation and adding the following:

Time of designation. Intermittent, 0600-0200 Eastern time daily; other times by NOTAM 6 hours in advance.

* * * * *

Issued in Washington, DC, on July 2, 2014.
Gary A. Norek,
Manager, Airspace Policy and Regulations Group.

[FR Doc. 2014-16061 Filed 7-8-14; 8:45 am]

BILLING CODE 4910-13-P